SOCIAL SECURITY ADMINISTRATION

[Docket No. SSA-2022-0048]

Charging Standard Administrative Fees for Non-Program Information

AGENCY: Social Security Administration.

ACTION: Notice of updated schedule of standard administrative fees.

SUMMARY: On August 22, 2012, we announced in the Federal Register a schedule of standard administrative fees we charge to the public. When authorized, we charge these fees to recover our full costs when we provide information and related services for non-program purposes. We are announcing an update to the previously published schedule of standard administrative fees. The updated standard fee schedule is part of our continued effort to standardize fees for non-program information requests. Standard fees provide consistency and ensure we recover the full cost of supplying information when we receive a request for a purpose not directly related to the administration of a program under the Social Security Act (Act).

DATES: The changes described above are applicable for requests we receive on or after October 1, 2022.

FOR FURTHER INFORMATION CONTACT: Karen Hunter, Social Security Administration, Office of Finance, 6401 Security Boulevard, Baltimore, MD 21235-6401, (410) 965-5861. For information on eligibility or filing for benefits, visit our website, socialsecurity.gov, or call our national toll-free number, 1-800-772-1213 or TTY 1-800-325-0778.

SUPPLEMENTARY INFORMATION: Section 1106 of the Act and the Privacy Act ¹ authorize the Commissioner of Social Security to promulgate regulations regarding the fees related to providing information. Our regulations and operating instructions identify when we will charge fees for information.² Under section 1106(c) of the Act, whenever we determine a request for information is for any purpose not directly related to the administration of the Social Security programs, we may require the requester to pay the full cost of providing the information.³ The agency may also charge fees in response to records requests when otherwise authorized by law, such as when authorized for certain program requests under section 1106(b) of the Act. To inform the public of the standard fees we charge to recover our costs, we announced in the Federal Register a schedule of standard administrative fees we charge to the public on August 22, 2012.⁴ We last updated the schedule of standard fees on September 29, 2020.⁵

¹ 42 U.S.C. 1306 and 5 U.S.C. 552a(f)(5), respectively.

² See 20 CFR 401.95, 402.170, and 402.175; Program Operations Manual System (POMS) GN 03311.005.

³ See 42 U.S.C. 1306(c) and 20 CFR 402.175.

⁴ 77 FR 50757.

⁵ 85 FR 61078.

New Information: We are required to review and update standard administrative fees at least every two years.⁶ Based on the most recent cost analysis, the following table provides the new schedule of standard administrative fees ⁷ per request:

⁶ See the Office of Management and Budget Circular No. A-25, User Charges.

⁷ Fees may differ for processing of records depending on applicable fee authorities and actions needed to respond to a records request, such as whether redactions are necessary and whether special services have been requested.

Copying an Electronic Folder: $49.

Copying a Paper Folder: $97.

Regional Office Certification: ⁸ $68.

⁸ Requests received in a field office, regional office, or headquarters component.

Record Extract: ⁹ $40.

⁹ Requests received and processed in a field office.

Third Party Manual SSN Verification: $42.

Office of Central Operations Certification: ¹⁰ $44.

¹⁰ Requests received in the Office of Central Operations.

W-2/W-3 Requests: ¹¹ $126.

¹¹ W-2/W-3 Fee is $126 per request, not dependent on the number of years or number of individuals within request.

Form SSA-7050, Request for Social Security Earning Information: $100.

Requests for Copy of Original Form SS-5, Application for a Social Security Card: $30.

Requests for Copy of Numident Record (Computer Extract of the SS-5): $28.

A requester can obtain certified and non-certified detailed yearly Social Security earnings information by completing Form SSA-7050, Request for Social Security Earning Information. We charge $100 for each Form SSA-7050 for detailed yearly Social Security earnings information. We will certify the detailed earnings information for an additional $44. Detailed earnings information includes the names and addresses of employers. Yearly earnings totals are available in two ways, depending on the requester's need for certification. A requester can continue to obtain non-certified yearly earnings totals (Form SSA-7004, Request for Social Security Statement) through our free online service, my Social Security, a personal online account for Social Security information and services. Online Social Security Statements display uncertified yearly earnings, free of charge, and do not show any employer information. A requester can obtain certified yearly Social Security earnings totals by completing the Form SSA-7050. The cost for certified yearly earnings totals is $144 ($100 plus an additional $44 for certification).

We will continue to evaluate all standard fees at least every two years to ensure we capture the full costs associated with providing information for non-program-related purposes. We require nonrefundable advance payment by check, money order, or credit card. We do not accept cash. We will accept only one form of payment in the full amount of the standard fee for each request, and will not divide the fee amount between more than one form of payment. If we revise any of the standard fees, we will publish another notice in the Federal Register. For other requests for information not addressed here or within the current schedule of standard administrative fees, we will continue to charge fees calculated on a case-by-case basis.

Additional Information

Additional information is available on our Business Services website at https://www.ssa.gov/thirdparty/business.html or by written request to: Social Security Administration, Office of Public Inquiries and Communications Support, 1100 West High Rise, 6401 Security Boulevard, Baltimore, MD 21235.

The Acting Commissioner of the Social Security Administration, Kilolo Kijakazi, Ph.D., M.S.W., having reviewed and approved this document, is delegating the authority to electronically sign this document to William P. Gibson, who is a Federal Register Liaison for SSA, for purposes of publication in the Federal Register.

William P. Gibson,
Federal Register Liaison, Office of Legislation and Congressional Affairs, Social Security Administration.

[FR Doc. 2022-20863 Filed 9-26-22; 8:45 am]

BILLING CODE 4191-02-P